ELECTION ASSISTANCE COMMISSION

Sunshine Act Notice

AGENCY: United States Election Assistance Commission.

ACTION: Notice of Plenary Teleconference Meeting for the Technical Guidelines Development Committee.

Date and Time: Tuesday, July 3, 2007, 11:30 a.m. to 4:30 p.m. EDT.

Place: National Institute of Standards and Technology, 100 Bureau Drive, Building 101, Gaithersburg, Maryland 20899-8900.

Status: This teleconference meeting will be Web cast to the public. Additional meeting information and URL Web link for the event will be available at http://vote.nist.gov. by June 19, 2007.

SUMMARY: The Technical Guidelines Development Committee (the “Development Committee”) has scheduled a plenary teleconference meeting for July 3, 2007. The Development Committee was established in 2004 to act in the public interest to assist the Executive Director of the U.S. Election Assistance Comission (EAC) in the development of voluntary voting system guidelines. The Development Committee has held nine previous plenary meetings. The proceedings of these plenary sessions are available at http://vote.nist.gov. The purpose of the tenth meeting of the Development Committee will be to review and approve a final draft of recommendations for future voluntary voting system guidelines to the EAC. The draft recommendations respond to tasks defined in resolutions passed at the previous Development Committee meetings as well as a review of a complete draft of recommendations presented at the May 2007 plenary meeting.

SUPPLEMENTARY INFORMATION: The Technical Guidelines Development Committee (the “Development Committee”) has scheduled a plenary teleconference meeting for July 3, 2007. The Committee was established pursuant to 42 U.S.C. 15361, to act in the public interest to assist the Executive Director of the Election Assistance Commission in the development of the voluntary voting system guidelines. The Technical Guidelines Development Committee held their first plenary meeting on July 9, 2004. At this meeting, the Development Committee agreed to a resolution forming three working groups: (1) Human Factors & Privacy; (2) Security & Transparency; and (3) Care Requirements & Testing to gather information and review preliminary reports on issues pertinent to voluntary voting standard recommendations. At subsequent plenary sessions, additional resolutions were debated and adopted by the TGDC. The resolutions define technical work tasks for NIST that assist the TGDC in developing recommendations for voluntary voting system guidelines. The Development Committee approved initial recommendations for voluntary voting system guidelines at the April 20th & 21st, 2005 meeting. The recommendation were formally delivered to the EAC in May 2005 for their review. In September of 2005, the Development Committee began review of preliminary technical reports for the next iteration of voluntary voting system guidelines. The Committee will review, debate and approve a final draft of recommendations of the next iteration of voluntary voting system guidelines at the July 3, 2007 teleconference meeting.

FOR FURTHER INFORMATION CONTACT: Allan Eustis 301-975-5099. If a member of the public would like to submit comments concerning the Committee's affairs at any time before or after the meeting, written comments should be addressed to the contact person indicated above, c/o NIST, 100 Bureau Drive, Mail Stop 8970, Gaithersburg, MD 20899 or to voting@nist.gov.

Thomas R. Wilkey,
Executive Director, U.S. Election Assistance Commission.

[FR Doc. 07-2839 Filed 6-4-07; 4:15 pm]

BILLING CODE 6820-KF-M